DEPARTMENT OF HEALTH AND HUMAN SERVICES

Administration for Children and Families

Statement of Organization, Functions, and Delegations of Authority

AGENCY: Administration for Children and Families, HHS.

ACTION: Notice.

SUMMARY: Statement of Organizations, Functions, and Delegations of Authority

The Administration for Children and Families (ACF) has realigned the Office of Human Services Emergency Preparedness and Response (OHSEPR). OHSEPR will be a direct report to the Deputy Assistant Secretary for External Affairs. ACF will transfer the U.S. Repatriation Program from the Office of Refugee Resettlement (ORR) to OHSEPR. The OHSEPR mission statement has been revised to include the Repatriation Program and responsibility for business continuity planning. It renames the Division of Disaster Case Management to the Division of Response and Recovery Operations and the Division of Emergency Planning, Policy and Operations to the Division of Emergency Policy and Planning. Lastly, it changes the reporting relationship of the Office of Communications from a direct report to the Deputy Assistant Secretary for External Affairs to a direct report to the Assistant Secretary for Children and Families.

FOR FURTHER INFORMATION CONTACT: Carolyn Meier, Acting Director for OHSEPR, (202) 401-9306, 330 C Street SW, Washington, DC 20201.

This notice amends Part K of the Statement of Organization, Functions, and Delegations of Authority of the Department of Health and Human Services (HHS), Administration for Children and Families (ACF), as follows: Chapter KA, Immediate Office of the Assistant Secretary as last amended in 80 FR 63555-63558, October 20, 2015; Chapter KW, Office of Human Services Emergency Preparedness and Response as last amended in 80 FR 63555-63558, October 20, 2015; Chapter KN, Office of Communications as last amended in 80 FR 63555-63558, October 20, 2015, and most recently in 81 FR 49223-49224, July 27, 2016; and Chapter KR, Office of Refugee Resettlement as last amended in 82 FR 6588-6590, January 19, 2017.

I. Under Chapter KW, Office of Human Services Emergency Preparedness and Response, delete KW in its entirety and replace with:

KW.00 MISSION. The Office of Human Services Emergency Preparedness and Response (OHSEPR) promotes resilience of vulnerable individuals, children, families, and communities impacted by disasters and public health emergencies. OHSEPR provides human services expertise to ACF grantees, partners, and stakeholders during preparedness, response, and recovery operations for emergency and disaster events. Working closely with ACF Program Offices and the Office of Regional Operations (ORO), OHSEPR coordinates ACF's planning, policy, and operations for emergency and disaster preparedness, response, and recovery. OHSEPR supports fulfillment of disaster human services within the integrated response and recovery operations of the HHS. OHSEPR administers the Human Services Immediate Disaster Case Management Program and the U.S. Repatriation Program. OHSEPR manages the ACF Continuity of Operation Plan (COOP), which directs how ACF's mission essential functions are performed during a wide range of disruptions or emergencies.

KW.10 ORGANIZATION. OHSEPR is headed by a Director, who reports to the Assistant Secretary through the Deputy Assistant Secretary of External Affairs (DASEA), and consists of:

Office of the Director (KW1)

Division of Response and Recovery Operations (KW2)

Division of Emergency Policy and Planning (KW3)

KW.20 FUNCTIONS. A. The Office of the Director is responsible for the administrative oversight and strategic direction of all OHSEPR programs, projects, and activities. The Director implements the strategic vision of the DASEA, manages budgetary and legal matters affecting OHSEPR, administers human resources and program evaluation functions, and ensures alignment of activities by all OHSEPR divisions with the Director's strategy and applicable laws, policies, doctrines, and frameworks related to the provision of HHS ACF disaster human services and business continuity operations. The Deputy Director assists the Director in an alter-ego capacity to carry out the responsibilities and oversight of the OHSEPR. The Director works in close coordination with the DASEA and the Assistant Secretary due to the highly visible nature of emergency preparedness and response.

The Administrative Team provides administrative, financial management, budget, and contract officer representative support to OHSEPR. These responsibilities include, but are not limited to: (1) Serving as the Executive Secretariat for OHSEPR, including managing correspondence, correspondence systems, and public requests; (2) coordinating human resources activities; and (3) as appropriate, development of internal policies and procedures relating to these activities.

B. Division of Response and Recovery Operations is responsible for administration of ACF human services response and recovery operations for disasters and public health emergencies and the repatriation of U.S. citizens. This division works closely with the Division of Emergency Policy and Planning to maintain capabilities and ensure readiness for response and recovery operations to future events. Deployable capabilities include the Human Services Immediate Disaster Case Management (IDCM) Program, the Emergency Repatriation Program, and the deployment of ACF human services subject matter experts and staffing assets during response and recovery events.

The Human Services IDCM Program assists states, tribes, and territories in establishing the capacity to coordinate and provide case management services in the event of a presidentially declared disaster for which Federal Emergency Management Agency (FEMA) Individual Assistance is approved. This Division maintains the capacity to deploy IDCM teams upon activation by the FEMA. The Division administers the electronic case record management system to provide IDCM services in accordance with data management laws and regulations. This Division works closely with FEMA and the HHS Assistant Secretary for Preparedness and Response (ASPR).

The Repatriation Program receives and assists citizens and their dependents returning to the United States through the repatriation process. During an emergency repatriation, initiated by the Department of State, this Division activates state government capability through pre-established agreements to provide temporary services necessary for the health and welfare of eligible repatriated individuals in the form of a service loan. Temporary services include, but are not limited to transportation, shelter, medical care, and other goods and services. (HHS Repatriation Program is authorized under Section 1113 of the Social Security Act and Public Law 86-571, 24 U.S.C. 321-329, and other applicable regulations and executive orders.) This Division maintains the capacity to deploy repatriation teams to support state government operations at points of entry. This Division works closely with the Department of State and HHS ASPR to carry out program operations and to respond during events when state capability has been exceeded.

This Division manages capabilities for other operations, including ACF's Watch Desk and threat analysis, situational awareness reporting, and deployment and management of requested human services subject matter experts and response and recovery staffing assets. It also coordinates ACF support for federal emergency missions and liaises with federal interagency and other partners in response and recovery.

C. Division of Emergency Policy and Planning is responsible for administering OHSEPR's policy and planning activities to support readiness of operations, and to promote preparedness and resilience for children, families, and communities prior to disasters, public health emergencies, and emergency repatriations. This Division carries out “steady state” activities to ensure readiness of deployable and non-deployable assets and programs, including the development of plans, guides, procedures, training, exercises, mutual agreements, and staffing assets. This Division actively promotes ACF's deployable capabilities, including IDCM and the Repatriation Program, and emergency preparedness and community resilience to ACF grantees and human services providers, and ensures human service impacts from disasters are addressed in HHS-wide and government-wide emergency planning and policymaking. This Division works closely with ACF programs, Office of Regional Operations, grantees and stakeholders, HHS operating divisions, federal human service programs, and state and local human service programs.

This Division analyzes, forecasts, and maintains volunteer employee staffing assets; administers training and exercises for the deployment of volunteer staff in various types of situations; and ensures necessary follow-up contact with volunteer staff after deployment to ensure their well-being and adjustment. This Division works closely with ACF Program Offices, the Office of Regional Operations, and the HHS Employee Assistance Program.

The Division is responsible for coordinating the development and currency of ACF COOPs as required by the Presidential Policy Directive 40 (PPD-40), National Continuity Policy, and as directed by the Administrator of FEMA. This Division ensures the COOP meets established continuity program and planning requirements for executive departments and agencies, and contains defined elements outlined in established frameworks, requirements, and processes. These required elements include delineation of essential functions; succession to office and delegations of authority; safekeeping of and access to essential records; continuity locations; continuity communications; human resources planning; devolution of essential functions; reconstitution; and program validation through testing, training, and exercises.

II. Under Chapter KA, Office of the Assistant Secretary for Children and Families, delete KA.20 Functions, Paragraph A in its entirety and replace with the following:

KA.20 FUNCTIONS. A. The Office of the Assistant Secretary for Children and Families is responsible to the Secretary for carrying out ACF's mission and provides executive supervision of the major components of ACF. These responsibilities include providing executive leadership and direction to plan and coordinate ACF program activities to ensure their effectiveness; approving instructions, policies, publications, and grant awards issued by ACF; and representing ACF in relationships with governmental and non-governmental organizations. The Principal Deputy Assistant Secretary serves as an alter-ego to the Assistant Secretary for Children and Families on program matters and acts in the absence of the Assistant Secretary for Children and Families. The Chief of Staff advises the Assistant Secretary for Children and Families and provides executive leadership and direction to the operations of ACF. The DASEA provides executive leadership and direction to the Office of Regional Operations and the OHSEPR. The Deputy Assistant Secretary for Early Childhood Development serves as a key liaison and representative to the Department for early childhood development on behalf of the Assistant Secretary, ACF, and to other agencies across the government on behalf of the Department. The Deputy Assistant Secretary for Policy has responsibility for cross-program coordination of ACF initiatives, including efforts to promote interoperability and program integration.

III. Under Chapter KN, Office of Communications, delete KN.10 Organization and replace with the following:

KN.10 ORGANIZATION. The Office of Communications is headed by a Director who reports to the Assistant Secretary for Children and Families. The Office is organized as follows:

Office of the Director (KNA)

Division of News and Media (KNB)

Division of Digital Information (KNC)

Division of Freedom of information Act (KND)

IV. Under Chapter KN, Office of Communications, delete KN.20 functions, paragraph A and replace with the following:

KN.20 FUNCTIONS. A. The Office of Director provides leadership and direction to the Office of Communications in administering its responsibilities. The Office provides direction and leadership in the areas of public relations policy and internal and external communications services. It serves as an advisor to the Assistant Secretary for Children and Families in the areas of public affairs, provides advice on strategies and approaches to be used to improve public understanding of and access to ACF programs and policies, and coordinates and serves as ACF liaison with the Assistant Secretary for Public Affairs. The Office serves as Regional Liaison on public affairs issues.

V. Continuation of Policy. Except as inconsistent with this reorganization, all statements of policy and interpretations with respect to organizational components affected by this notice within ACF heretofore issued and in effect on this date of this reorganization are continued in full force and effect.

VI. Delegation of Authority. All delegations and redelegations of authority made to officials and employees of affected organizational components will continue in them or their successors pending further redelegations, provided they are consistent with this reorganization.

VII. Funds, Personnel, and Equipment. Transfer of organizations and functions affected by this reorganization shall be accompanied in each instance by direct and support funds, positions, personnel, records, equipment, supplies, and other resources.

This reorganization will be effective upon date of signature.

Dated: August 8, 2018.
Steven Wagner,
Acting Assistant Secretary for Children and Families.

[FR Doc. 2018-17575 Filed 8-14-18; 8:45 am]

BILLING CODE 4184-34-P